DEPARTMENT OF THE INTERIOR

National Park Service

Notice of Inventory Completion for Native American Human Remains and Associated Funerary Objects from LaCrosse, Wisconsin, in the Possession of the State Historical Society of Wisconsin, Madison, WI; Correction

AGENCY: National Park Service, Interior.

ACTION: Notice; correction.

Notice is here given in accordance with the Native American Graves Protection and Repatriation Act (NAGPRA), 25 U.S.C. 3003, of the completion of an inventory of human remains and associated funerary objects in the possession of the State Historical Society of Wisconsin (also known as Wisconsin Historical Society), Burial Sites Office, Madison, WI. The human remains and cultural items were removed from LaCrosse County, WI.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects a previously published notice by increasing the number of human remains from 46 to 48 and the number of associated funerary objects from 38 to 39.

In the Federal Register of March 26, 1999, FR Doc. 99-7502 (pages 14757 and 14758), paragraph number three is corrected by substituting the following paragraph:

During 1989-1991, human remains representing a minimum of 48 individuals were recovered from the Gunderson Clinic site (47-Lc-0394) by field crews of the Mississippi Valley Archeological Center during parking lot expansion of the Gunderson Clinic, LaCrosse, WI. No known individuals were identified. The 39 associated funerary objects are 8 ceramic pots and sherds; 10 projectile points; 13 tools, including knives, scrapers, awls, and modified flakes; 3 shells; 2 copper fragments; 1 mammal bone; and 2 burned wood fragments.

Paragraph number five is corrected by substituting the following paragraph:

Officials of the Wisconsin Historical Society have determined that, pursuant to 25 U.S.C. 3001 (9-10), the human remains described above represent the physical remains of 48 individuals of Native American ancestry. Officials of the Wisconsin Historical Society also have determined that, pursuant to 25 U.S.C. 3001 (3)(A), the 39 objects described above are reasonably believed to have been placed with or near individual human remains at the time of death or later as part of the death rite or ceremony. Lastly, officials of the Wisconsin Historical Society have determined that, pursuant to 25 U.S.C. 3001 (2), there is a relationship of shared group identity that can be reasonably traced between the Native American human remains and associated funerary objects and the Ho-Chunk Nation of Wisconsin and Iowa Tribe of Oklahoma.

Representatives of any other Indian tribe that believes itself to be culturally affiliated with the human remains and associated funerary objects should contact Jennifer Kolb, Deputy Director, Museum Division, Wisconsin Historical Society, 816 State Street, Madison, WI 53706-1482, telephone (608) 264-2461, before October 11, 2006. Repatriation of the human remains and associated funerary objects to the Ho-Chunk Nation of Wisconsin and Iowa Tribe of Oklahoma may proceed after that date if no additional claimants come forward.

The Wisconsin Historical Society is responsible for notifying the Ho-Chunk Nation of Wisconsin and Iowa Tribe of Oklahoma that this notice has been published.

Dated: August 21, 2006
C. Timothy McKeown,
Acting Manager, National NAGPRA Program.

[FR Doc. E6-14930 Filed 9-8-06; 8:45 am]

BILLING CODE 4312-50-S